NUCLEAR REGULATORY COMMISSION

Advisory Committee on Reactor Safeguards

In accordance with the purposes of Sections 29 and 182b of the Atomic Energy Act (42 U.S.C. 2039, 2232b), the Advisory Committee on Reactor Safeguards (ACRS) will hold a meeting on February 5-7, 2009, 11545 Rockville Pike, Rockville, Maryland. The date of this meeting was previously published in the Federal Register on Monday, October 6, 2008, (73 FR 58268-58269).

Thursday, February 5, 2009, Conference Room T-2b3, Two White Flint North, Rockville, Maryland

8:30 a.m.-8:35 a.m.: Opening Remarks by the ACRS Chairman (Open)—The ACRS Chairman will make opening remarks regarding the conduct of the meeting.

8:35 a.m.-10:30 a.m.: Draft Final NUREG-1855, Guidance on the Treatment of Uncertainties Associated with PRAs in Risk-Informed Decisionmaking (Open)—The Committee will hear presentations by and hold discussions with representatives of the NRC staff regarding the draft final NUREG-1855 and related matters.

10:45 a.m.-11:45 a.m.: Draft Final Regulatory Guide DG-5021, Safety/Security Interface (Open)—The Committee will hear presentations by and hold discussions with representatives of the NRC staff regarding the draft final Regulatory Guide DG-5021 on the Safety/Security Interface.

12:45 p.m.-2:45 p.m.: Digital Upgrade of the Oconee Reactor Protection System and Engineered Safety Features (Open/Closed)—The Committee will hear presentations by and hold discussions with representatives of the NRC staff and Duke Energy regarding the digital upgrade of the reactor protection system and engineered safety features at Oconee Nuclear Station, Units 1, 2, & 3, and related matters.

[Note: A portion of this session may be closed to discuss and protect information that is proprietary to Duke Energy or its contractors pursuant to 5 U.S.C. 552b(c)(4).]

3 p.m.-7 p.m.: Preparation of ACRS Reports (Open)—The Committee will discuss proposed ACRS reports on matters discussed during this meeting, as well as a proposed report on containment overpressure credit.

Friday, February 6, 2009, Conference Room T-2b3, Two White Flint North, Rockville, Maryland

8:30 a.m.-8:35 a.m.: Opening Remarks by the ACRS Chairman (Open)—The ACRS Chairman will make opening remarks regarding the conduct of the meeting.

8:35 a.m.-10 a.m.: SECY-08-0197, Options to Revise Radiation Protection Regulations and Guidance Based on Recommendations of the International Commission on Radiological Protection (ICRP) (Open)—The Committee will hear presentations by and hold discussions with representatives of the NRC staff regarding options to revise the NRC radiation protection regulations and guidance based on the recommendations of the ICRP.

10:15 a.m.-10:45 a.m.: Subcommittee Reports (Open)—The Committee will hear reports by and hold discussions with the cognizant Chairman of the Plant License Renewal Subcommittee regarding interim reviews of the Beaver Valley and National Institute of Standards and Technology license renewal applications and the associated NRC Staff's Safety Evaluation Reports with Open Items that were discussed during meetings on February 4, 2009.

10:45 a.m.-11:45 a.m.: Future ACRS Activities/Report of the Planning and Procedures Subcommittee (Open/Closed)—The Committee will discuss the recommendations of the Planning and Procedures Subcommittee regarding items proposed for consideration by the Full Committee during future ACRS meetings and other matters related to the conduct of the ACRS business. [NOTE: A portion of this session may be closed pursuant to 5 U.S.C. 552b(c)(2) and (6) to discuss organizational and personnel matters that relate solely to internal personnel rules and practices of ACRS, and information the release of which would constitute a clearly unwarranted invasion of personal privacy]

11:45 a.m.-12 p.m.: Reconciliation of ACRS Comments and Recommendations (Open)—The Committee will discuss the responses from the NRC Executive Director for Operations to comments and recommendations included in recent ACRS reports and letters.

1 p.m.-7 p.m.: Preparation of ACRS Reports (Open)—The Committee will discuss proposed ACRS reports.

Saturday, February 7, 2009, Conference Room T-2b3, Two White Flint North, Rockville, Maryland

8:30 a.m.-12:30 p.m.: Preparation of ACRS Reports (Open)—The Committee will continue its discussion of proposed ACRS reports.

12:30 p.m.-1 p.m.: Miscellaneous (Open)—The Committee will discuss matters related to the conduct of Committee activities and specific issues that were not completed during previous meetings, as time and availability of information permit.

Procedures for the conduct of and participation in ACRS meetings were published in the Federal Register on October 6, 2008, (73 FR 58268-58269). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close portions of this meeting noted above to discuss organizational and personnel matters that relate solely to the internal personnel rules and practices of the ACRS, and information the release of which would constitute a clearly unwarranted invasion of personal privacy pursuant to 5 U.S.C. 552b(c)(2) and (6). In addition, it may be necessary to close a portion of the meeting to protect information designated as proprietary by Duke Energy or its contractors pursuant to 5 U.S.C. 552b(c)(4).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service.

Individuals or organizations requesting this service will be responsible for telephone line charges and for providing the equipment and facilities that they use to establish the video teleconferencing link. The availability of video teleconferencing services is not guaranteed.

Dated: January 21, 2009
Annette L. Vietti-Cook,
Secretary of the Commission.

[FR Doc. E9-1679 Filed 1-22-09; 4:15 pm]

BILLING CODE 7590-01-P